DEPARTMENT OF THE INTERIOR

Fish and Wildlife Service

[FWS-R4-ES-2011-N151; 40120-1112-0000-F2]

Draft Environmental Impact Statement for Alabama Beach Mouse General Conservation Plan for Incidental Take on the Fort Morgan Peninsula, Baldwin County, AL

AGENCY: Fish and Wildlife Service, Interior.

ACTION: Notice.

SUMMARY: Under the Endangered Species Act of 1973, as amended (Act), we, the U.S. Fish and Wildlife Service, announce the availability of a draft general conservation plan (GCP) and accompanying draft environmental impact statement (dEIS). If approved, the GCP would facilitate review of future incidental take applications. The take would affect the federally endangered Alabama beach mouse (Peromyscus polionotus ammobates) in Baldwin County, Alabama. The GCP analyzes the potential take incidental to construction, occupation, and maintenance of an estimated 500 single-family residences. We invite public comments on these documents.

DATES: We must receive any written comments on the GCP and dEIS at our Regional Office (see ADDRESSES) and on or before November 7, 2011.

ADDRESSES: Documents will be available for public inspection by appointment during normal business hours at the Regional Office, 1875 Century Boulevard, Suite 200, Atlanta, GA 30345, or at the Fish and Wildlife Service Field Office, 1208-B Main Street, Daphne, AL 36526. For how to comment, see Public Comments under SUPPLEMENTARY INFORMATION.

FOR FURTHER INFORMATION CONTACT: Mr. David Dell, Regional HCP Coordinator (see ADDRESSES), telephone: 404/679-4144, or Mr. Darren LeBlanc, Field Office Project Manager, at the Alabama Field Office (see ADDRESSES), telephone: 251/441-5868.

SUPPLEMENTARY INFORMATION: We announce the availability of the proposed GCP and the dEIS. These documents analyze the take of the Alabama beach mouse incidental to construction of up to 500 single-family developments potentially affecting an estimated total of 75 acres of Alabama beach mouse habitat. Individual land owners who would need incidental take permits (ITP) for single-family developments, and whose development proposal fits within limits evaluated in the GCP, could apply for ITPs using the GCP provisions instead of producing their own habitat conservation plans. The GCP evaluates issuance of ITPs with up to 50-year terms under section 10(a)(1)(B) of the Act (16 U.S.C. 1531 et seq.). The GCP describes the mitigation and minimization measures proposed to address the effects on the species.

We specifically request information, views, and opinions from the public via this notice on our proposed Federal action, including identification of any other aspects of the human environment not already identified in the dEIS pursuant to National Environmental Policy Act (NEPA) regulations in the Code of Federal Regulations (CFR) at 40 CFR 1506.6. Further, we specifically solicit information regarding the adequacy of the GCP per 50 CFR parts 13 and 17.

The dEIS analyzes the preferred alternative, as well as a range of reasonable alternatives and the associated impacts of each. Alternative 3 (Preferred Alternative) is implementation of the GCP. Rejection of the GCP would not necessarily halt single-family lot development in the study area. One of the alternatives considered would be to continue individual permitting as is done currently.

Public Comments

Before including your address, phone number, e-mail address, or other personal identifying information in your comment, you should be aware that your entire comment—including your personal identifying information—may be made publicly available at any time. While you can ask us in your comment to withhold your personal identifying information from public review, we cannot guarantee that we will be able to do so.

If you wish to comment, you may submit comments by any one of several methods. Please reference “Alabama beach mouse GCP” in such comments. You may mail comments to our Regional Office or the Alabama Field Office (see ADDRESSES). You may also comment via the Internet to david_dell@fws.gov or darren_leblanc@fws.gov. Please include your name and return mailing address in your e-mail message. If you do not receive a confirmation from us that we have received your e-mail, contact us directly at either telephone number listed (see FOR FURTHER INFORMATION CONTACT). Finally, you may hand-deliver comments to either of our offices listed under ADDRESSES.

Covered Area

The GCP coverage area extends along the Gulf of Mexico for about 17 miles, encompassing approximately 2,400 acres of open beach and associated nearshore coastal dune environments on the Fort Morgan Peninsula, Baldwin County, Alabama. The coverage area begins at Little Lagoon Pass, on State Highway 182 in Gulf Shores, and extends westward to the tip of the Fort Morgan State Historic site at the western terminus of the Fort Morgan Peninsula. The area is defined biologically as that area where an Alabama beach mouse population or subpopulation could be affected by residential single-family development.

Next Steps

We will evaluate the GCP and its potential use by ITP applicants, as well as any comments we receive, to determine whether the GCP, when used by ITP applicants, would meet the requirements of section 10(a)(1)(B) of the Act. We will also evaluate whether issuance of section 10(a)(1)(B) ITPs under the GCP would comply with section 7 of the Act by conducting an intra-Service section 7 consultation on anticipated ITP actions. We will consider the results of this consultation, in combination with the above findings, in our final analysis to determine whether or not to make the GCP available to ITP applicants and issue ITPs under the GCP. If we determine that the requirements are met, we will issue ITPs for the incidental take of the Alabama beach mouse to those applicants who meet the criteria established in the GCP.

Authority We provide this notice under section 10 of the Act (16 U.S.C. 1531 et seq.) and NEPA regulations (40 CFR 1506.6).

Dated: July 8, 2011.
Mark J. Musaus,
Acting Regional Director, Southeast Region.

[FR Doc. 2011-20140 Filed 8-8-11; 8:45 am]

BILLING CODE 4310-55-P